DEPARTMENT OF THE INTERIOR

National Park Service

[NPS-WASO-NAGPRA-16112; PPWOCRADN0-PCU00RP14.R50000]

Notice of Intent To Repatriate Cultural Items: U.S. Department of the Interior, National Park Service, Aztec Ruins National Monument, Aztec, NM

AGENCY: National Park Service, Interior.

ACTION: Notice.

SUMMARY: The U.S. Department of the Interior, National Park Service, Aztec Ruins National Monument, in consultation with the appropriate Indian tribes or Native Hawaiian organizations, has determined that the cultural items listed in this notice meet the definition of unassociated funerary objects. Lineal descendants or representatives of any Indian tribe or Native Hawaiian organization not identified in this notice that wish to claim these cultural items should submit a written request to Aztec Ruins National Monument. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Aztec Ruins National Monument at the address in this notice by September 25, 2014.

ADDRESSES: Lawrence Turk, Superintendent, Aztec Ruins National Monument, 84 Road 2900 (Ruins Road), Aztec, NM 87410, telephone (505) 334-6174 x222, email larry_turk@nps.gov.

SUPPLEMENTARY INFORMATION: Notice is here given in accordance with the Native American Graves Protection and Repatriation Act (NAGPRA), 25 U.S.C. 3005, of the intent to repatriate cultural items under the control of the U.S. Department of the Interior, National Park Service, Aztec Ruins National Monument, Aztec, NM, that meet the definition of unassociated funerary objects under 25 U.S.C. 3001.

This notice is published as part of the National Park Service's administrative responsibilities under NAGPRA, 25 U.S.C. 3003(d)(3). The determinations in this notice are the sole responsibility of the Superintendent, Aztec Ruins National Monument.

History and Description of the Cultural Items

At an unknown date, five cultural items were removed from an unknown location in San Juan County, NM. In 1953, the items were donated to Aztec Ruins National Monument by Sherman Howe. Catalog records indicate that the items were found in a burial. No information is available regarding the whereabouts of any associated human remains. The five unassociated funerary objects are one Mesa Verde Black-on-White ceramic mug, one Black-on-White ceramic ladle, one corrugated ceramic culinary jar, and two Black-on-White ceramic bowls.

At an unknown date, one cultural item was removed from Haymie Ranch in San Juan County, NM. The item and associated human remains were donated to Aztec Ruins National Monument in 1960 by Esaias Haymie. The human remains were repatriated in 1998. The one unassociated funerary object is a Mesa Verde Black-on-White ceramic canteen.

At an unknown date, one cultural item was removed from LA 45 West Ruin in San Juan County, NM. Catalog records indicate that the item was likely removed from a burial but no human remains have been found. The one unassociated funerary object is a Mesa Verde Black-on-White ceramic bowl.

In 1934, four cultural items were removed from LA 45 West Ruin in San Juan County, NM. Associated human remains were repatriated in 1998. The four unassociated funerary objects are one Mesa Verde Black-on-White ceramic cup, two Black-on-White ceramic bowls, and one corrugated ceramic culinary jar.

In 1953, 29 cultural items were removed from LA 45 Hubbard Mound in San Juan County, NM. Associated human remains were repatriated in 1998. The 29 unassociated funerary objects are 1 bone tube, 1 Mesa Verde Black-on-White ceramic bowl, 1 Mesa Verde Black-on-White ceramic scoop, and 26 Black-on-White ceramic sherds.

The major occupation in and around Aztec Ruins National Monument has been well documented since the beginning of the 20th century in archeological sources as dating to the Pueblo II-Pueblo III period (circa A.D. 900-1300). A cultural affiliation study and subsequent tribal consultation indicate that the Hopi Tribe of Arizona and Zuni Tribe of the Zuni Reservation, New Mexico considers Aztec Ruins National Monument to be within their ancestral homeland. Oral traditions of ancestral puebloan peoples, including the Hopi Tribe of Arizona and Zuni Tribe of the Zuni Reservation, New Mexico, support a history of migrations through and occupation of Aztec Ruins National Monument and surrounding areas. The cultural items were identified by Hopi and Zuni cultural specialists as funerary objects used in Hopi and Zuni burial practices based upon the specific forms and ceramic designs, as well as archeological contexts.

Determinations Made by Aztec Ruins National Monument

Officials of Aztec Ruins National Monument have determined that:

• Pursuant to 25 U.S.C. 3001(3)(B), the 40 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona and Zuni Tribe of the Zuni Reservation, New Mexico.

Additional Requestors and Disposition

Lineal descendants or representatives of any Indian tribe or Native Hawaiian organization not identified in this notice that wish to claim these cultural items should submit a written request with information in support of the claim to Lawrence Turk, Superintendent, Aztec Ruins National Monument, 84 Road 2900 (Ruins Road), Aztec, NM 87410, telephone (505) 334-6174 x222, email larry_turk@nps.gov, by September 25, 2014. After that date, if no additional claimants have come forward, transfer of control of the unassociated funerary objects to the Hopi Tribe of Arizona and Zuni Tribe of the Zuni Reservation, New Mexico may proceed.

Aztec Ruins National Monument is responsible for notifying the Hopi Tribe of Arizona; Jicarilla Apache Nation, New Mexico; Kewa Pueblo, New Mexico (previously listed as the Pueblo of Santo Domingo); Kiowa Indian Tribe of Oklahoma; Mescalero Apache Tribe of the Mescalero Reservation, New Mexico; Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; Ysleta Del Sur Pueblo of Texas; and the Zuni Tribe of the Zuni Reservation, New Mexico, that this notice has been published.

Dated: August 18, 2014.
Sherry Hutt,
Manager, National NAGPRA Program.

[FR Doc. 2014-20222 Filed 8-25-14; 8:45 am]

BILLING CODE 4312-50-P